DEPARTMENT OF COMMERCE

[I.D. 042401B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Red Crab Authorization and Notification.

Form Number(s): None.

OMB Approval Number: None.

Type of Request: Emergency submission.

Burden Hours: 1.

Number of Respondents: 10.

Average Hours Per Response: 5 minutes for a request for a Letter of Authorization, 2 minutes for a trip notification.

Needs and Uses: Fishermen must obtain a Letter of Authorization in order to fish for, catch, possess, transport, land, or process at sea more than 100 pounds of red crab from the U.S. Exclusive Economic Zone of the western Atlantic Ocean. A person holding such a Letter of Authorization may be required to call NOAA prior to fishing trips to arrange for the deployment of observers on their vessels. These requirements are needed to manage the fishery.

Affected Public: Business or other for-profit organizations, individuals or households.

Frequency: Weekly for IVR report, monthly for a Vessel Trip Report.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: April 24, 2001.
Madeleine Clayton,
Departmental Paperwork Clearance Officer, Office of the Chief Information Officer.

[FR Doc. 01-10654 Filed 4-27-01; 8:45 am]

BILLING CODE 3510-22-S